COMMITTEE FOR PURCHASE FROM PEOPLE WHO ARE BLIND OR SEVERELY DISABLED

Procurement List; Additions and Deletion

AGENCY: Committee for Purchase from People Who Are Blind or Severely Disabled.

ACTION: Additions to and deletion from Procurement List.

SUMMARY: This action adds to the Procurement List products and services to be furnished by nonprofit agencies employing persons who are blind or have other severe disabilities, and deletes from the Procurement List services previously furnished by such agencies.

EFFECTIVE DATE: April 18, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On October 10, 2003, January 9, and January 23, 2004, the Committee for Purchase From People Who Are Blind or Severely Disabled published notice (68 FR 58651, 69 FR 1568, and 3329) of proposed additions to the Procurement List.

The following comments pertain to Grounds Maintenance, Naval & Marine Corps Reserve Center, 995 E. Mission Street, San Jose, California.

Comments were received from the current contractor in response to a request for impact information. While conceding that the financial impact on the company of losing this contract will be negligible, the contractor did not believe it fair for its entry-level employees to be losing their jobs. The contractor did not provide any indication of how many jobs would actually be lost as a result of the Committee's action.

The Committee is sympathetic to the plight of the contractor's workers, many of whom are from immigrant backgrounds and have limited job and communication skills. However, due to the extremely high unemployment rate of the people with severe disabilities whom the Committee's program serves, the Committee believes that the creation of jobs for these people outweighs the possible loss of jobs for people whose unemployment rate is normally lower, and who could thus more easily replace any jobs lost.

The following material pertains to all of the items being added to the Procurement List. After consideration of the material presented to it concerning capability of qualified nonprofit agencies to provide the products and services and impact of the additions on the current or most recent contractors, the Committee has determined that the products and services listed below are suitable for procurement by the Federal government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Tree Marking Paint, Water Resistant,

8010-01-511-5057—2400-401 Type D Orange (16 oz. Aerosol),

8010-01-511-5059—2400-401 Type D Yellow (16 oz. Aerosol),

8010-01-511-5061—2400-401 Type D Green (16 oz. Aerosol),

8010-01-511-5063—2400-401 Type D Black (16 oz. Aerosol),

8010-01-511-5066—2400-401 Type D White (16 oz. Aerosol),

8010-01-511-5067—2400-401 Type D Blue (16 oz. Aerosol),

8010-01-511-5095—2400-401 Type C Orange (Quart),

8010-01-511-5097—2400-401 Type C Orange (Gallon),

8010-01-511-5098—2400-401 Type C Yellow (Quart),

8010-01-511-5100—2400-401 Type C Yellow (Gallon),

8010-01-511-5101—2400-401 Type C Green (Gallon),

8010-01-511-5102—2400-401 Type C Green (Quart),

8010-01-511-5103—2400-401 Type C Blue (Quart),

8010-01-511-5104—2400-401 Type C Blue (Gallon),

8010-01-511-5105—2400-401 Type C White (Quart),

8010-01-511-5107—2400-401 Type C White (Gallon),

8010-01-511-5108—2400-401 Type C Black (Quart),

8010-01-511-5109—2400-401 Type C Black (Gallon).

NPA: Lighthouse for the Blind, St. Louis, Missouri.

Contract Activity: GSA, Hardware & Appliances Center, Kansas City, Missouri.

Services

Service Type/Location: Custodial Services, Harley O. Staggers Federal Building, 75 High Street, Morgantown, West Virginia.

NPA: PACE Training and Evaluation Center, Inc., Star City, West Virginia.

Contract Activity: GSA, Public Buildings Service, Region 3 (3PMT), Philadelphia, Pennsylvania.

Service Type/Location: Grounds Maintenance, Naval & Marine Corps Reserve Center, 995 E. Mission Street, San Jose, California.

NPA: Social Vocational Services, Inc., Torrance, California.

Contract Activity: Naval Facilities Engineering Command, Alameda, California.

Service Type/Location: Janitorial/Custodial, Naval & Marine Corps Reserve Center, 995 E. Mission Street, San Jose, California.

NPA: Social Vocational Services, Inc., Torrance, California.

Contract Activity: Naval Facilities Engineering Command, Alameda, California.

Deletion

On January 9, 2004, the Committee for Purchase From People Who Are Blind or Severely Disabled published notice (69 FR 1568) of proposed deletion to the Procurement List. After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the government.

3. There are no known regulatory alternatives which would accomplish the objectives of the Javits-Wagner-O'Day Act (41 U.S.C. 46-48c) in connection with the service deleted from the Procurement List.

End of Certification

Accordingly, the following service is deleted from the Procurement List:

Service

Service Type/Location: Microfilming of EEG Records, Department of Veterans Affairs, William S. Middleton Memorial Veterans Hospital, Madison, Wisconsin.

NPA: Lester and Rosalie Anixter Center, Chicago, Illinois.

Contract Activity: Department of Veterans Affairs, Madison, Wisconsin.

G. John Heyer,
General Counsel.

[FR Doc. 04-6231 Filed 3-18-04; 8:45 am]

BILLING CODE 6353-01-P